DEPARTMENT OF HOMELAND SECURITY

Coast Guard

33 CFR Parts 100 and 165

[Docket No. USCG-2012-1036]

RIN 1625-AA00; 1625-AA08

Safety Zones & Special Local Regulations; Recurring Marine Events in Captain of the Port Long Island Sound Zone

AGENCY: Coast Guard, DHS.

ACTION: Notice of Proposed Rulemaking.

SUMMARY: The Coast Guard proposes to add, delete, and modify safety zones and special local regulations and add language to clarify time frames and notification requirements for annual marine events in the Sector Long Island Sound Captain of the Port (COTP) Zone. When these regulated areas are activated and subject to enforcement, this rule would restrict vessels from portions of water areas during these recurring events. The safety zones and special local regulations will facilitate public notification of events and provide protective measures for the maritime public and event participants from the hazards associated with these recurring events.

DATES: Comments and related material must be received by the Coast Guard on or before May 6, 2013.

Requests for public meetings must be received by the Coast Guard on or before April 25, 2013.

ADDRESSES: You may submit comments identified by docket number using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Petty Officer Joseph Graun, Waterways Management Division at Coast Guard Sector Long Island Sound, telephone 203-468-4544, email joseph.l.graun@uscg.mil. If you have questions on viewing or submitting material to the docket, call Barbara Hairston, Program Manager, Docket Operations, telephone (202) 366-9826.

SUPPLEMENTARY INFORMATION:

Table of Acronyms

COTP Captain of the Port

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2012-1036] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing comments and documents

To view comments, as well as documents mentioned in this preamble as being available in the docket, go to http://www.regulations.gov, type the docket number (USCG-2012-1036) in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public meeting

We do not now plan to hold a public meeting. But you may submit a request for one, using one of the methods specified under ADDRESSES on or before April 25, 2013. Please explain why you believe a public meeting would be beneficial. If we determine that one would aid this rulemaking, we will hold one at a time and place announced by a later notice in the Federal Register.

B. Regulatory History and Information

The Coast Guard promulgated safety zones and special local regulations for most of these events in the past and received no public comments. The most recently promulgated rulemaking was on April 4, 2012 when the Coast Guard published a notice of proposed rulemaking entitled, (NPRM) Special Local Regulation and Safety Zones; Marine Events in Captain of the Port Sector Long Island Sound Zone in the Federal Register (77 FR 20324). A final rule was published on July 5, 2012, entitled, “Special Local Regulation and Safety Zones; Marine Events in Captain of the Port Sector Long Island Sound Zone” in the Federal Register (77 FR 39633).

C. Basis and Purpose

The legal basis for the proposed rule is 33 U.S.C. 1231, 1233; 46 U.S.C. Chapter 701, 3306, 3703; 50 U.S.C. 191, 195; 33 CFR 1.05-1, 6.04-1, 6.04-6, and 160.5; Public Law 107-295, 116 Stat. 2064; and Department of Homeland Security Delegation No. 0170.1, which collectively authorize the Coast Guard to define regulatory safety zones.

This regulation proposes to: (1) Establish new marine event regulated areas, (2) remove old safety zones that are no longer needed, (3) modify and update some existing regulated areas and (4) clarify event time frames and marine event application requirements. This will account for new events, remove events that are no longer held, and to account for modifications to several of the recurring marine events that have occurred since last year.

D. Discussion of Proposed Rule

The Coast Guard proposes to revise sections 33 CFR 165.151 “Safety Zones; Fireworks Displays, Air Shows and Swim Events in the Captain of the Port Long Island Sound Zone” and 33 CFR 100.100 “Special Local Regulations; Regattas and Boat Races in the Coast Guard Sector Long Island Sound Captain of the Port Zone.” By establishing 41 permanent marine events regulated areas, removing four, modifying one marine event safety zone and adding language to clarify event time frames and marine event application requirements. By proposing these permanent regulation updates, we are providing the public with an opportunity to comment on these changes. This rulemaking limits the unnecessary burden of continually establishing temporary rules every year for events that occur on an annual basis.

(1) Establishing New Marine Event Regulated Areas

This rule proposes to establish 39 permanent marine event safety zones under 33 CFR 165.151 and two permanent marine events special local regulations under 33 CFR 100.100. These events include fireworks displays, swimming events, and regattas that take place throughout the Long Island Sound Captain of the Port Zone. Event locations and details are listed below in the text of the regulation. Because large numbers of spectator vessels are expected to congregate around the location of these events, these regulated areas are needed to protect both spectators and participants from the safety hazards created by them—including large numbers of swimmers, hard to see and unstable small boats, unexpected pyrotechnics detonation, and burning debris. This rule would permanently establish regulated areas that restrict vessel movement around the location of each marine event to reduce the safety risks associated with them.

During the enforcement period of the regulated areas, persons and vessels would be prohibited from entering, transiting through, remaining, anchoring or mooring within the regulated area unless specifically authorized by the COTP or the designated representative. Persons and vessels would be able to request authorization to enter, transit through, remain, anchor or moor within the regulated areas by contacting the COTP Sector Long Island Sound by telephone at (203) 468-4401, or designated representative via VHF radio on channel 16. If authorization to enter, transit through, remain, anchor, or moor within any of the regulated areas is granted, all persons and vessels receiving authorization would be required to comply with the instructions of the COTP or designated representative.

The Coast Guard COTP Sector Long Island Sound or designated representatives would enforce the regulated areas. These designated representatives are comprised of commissioned, warrant, and petty officers of the Coast Guard. The Coast Guard may be assisted by other federal, state and local agencies in the enforcement of these regulated areas.

To aid the public in identifying the launch platforms; fireworks barges used for these displays will have a sign on their port and starboard side labeled “FIREWORKS—STAY AWAY.” This sign will consist of 10 inch high by 1.5 inch wide red lettering on a white background. Shore launch sites will display a sign labeled “FIREWORKS—STAY AWAY” with the same dimensions.

Certain safety zones and special local regulations are listed without known dates or times. Coast Guard Sector Long Island Sound will cause notice of the enforcement of these regulated areas to be made by all appropriate means to affect the widest publicity among the effected segments of the public, including publication in the Federal Register as a Notice of Enforcement, Local Notice to Mariners and Broadcast Notice to Mariners.

(2) Remove Old Safety Zones That Are No Longer Needed

This rule proposes to remove four safety zones from TABLE 1 to § 165.151. Events 7.18 Hartford Riverfest Fireworks and 7.32 Thames River Fireworks will be removed because they are redundant. The Riverfest Fireworks and Mashantucket Pequot Fireworks events are permanent events under TABLE 1 to § 165.151 and provide safety zones for the same events making 7.18 and 7.32 unnecessary. Events 8.1 Pyro-FX Entertainment Group Fireworks and 8.2 Port Washington Sons of Italy Fireworks will be removed because the events have not taken place in several years and are no longer needed.

(3) Modify and Update Existing Regulated Areas

Event 5.1 Jones Beach Air Show would be modified to expand the event area by moving the current western boundary a half mile further to the west and the south west corner one mile further south. This is being proposed because one of the events aerial performing groups “The Blue Angels” has requested a larger area within which to perform their aerial acrobatics. This larger area would expand the area vessels are prohibited from entering, transiting through, remaining, anchoring or mooring within and provide “The Blue Angels” a larger area to perform their aerial acrobatics while minimizing risks to the maritime community.

(4) Clarifying Event Time Frames and Marine Event Application Requirements

The Coast Guard proposes to add new language to both 33 CFR 100.100 and 33 CFR 165.151. First we propose stating that sponsors for each marine event listed in the tables must submit a marine event application 60 days prior to the proposed event date. This language does not create or change the submission requirements, it simply restates the requirements of 33 CFR 100.15 making it easier for sponsors to locate by placing it with the other event requirements. We are proposing this language because there has been some confusion about how early a sponsor must submit a marine event application, the goal of this language is to eliminate that confusion.

Secondly, we propose each event listed in the table without a date must take place during the month it is listed under. We are proposing this to give sponsors and the public a known date range that the event must take place within. Currently, events are listed under a specific month such as “June” or “August” and the expectation is that the sponsor will hold the event during the month it is listed. However, this has never been a written standard. Adding this language provides the sponsors and public a written standard and a chance to comment on it. We propose one exception to these date limits, any safety zone listed in 33 CFR 165.151 under the month of July may take place during July or up to seven days prior to July. We are proposing this exception to account for events that are listed under the month of July and are proposed to closely coincide with or specifically avoid Fourth of July celebrations. Accordingly, many of these events are planned to be held the weekend before the Fourth of July. However, due to the annual variations concerning the day of the week on which the holiday falls, scheduling the event for the preceding weekend may result in the event being held in the last week of June in some years and in July in other years.

E. Regulatory Analyses

We developed this proposed rule after considering numerous statutes and executive orders related to rulemaking. Below we summarize our analyses based on a number of these statutes or executive orders.

1. Regulatory Planning and Review

This proposed rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders.

We expect the economic impact of this proposed rule to be minimal. Although this regulation may have some impact on the public, the potential impact will be minimized for the following reasons: The Coast Guard has previously promulgated regulated areas in accordance with 33 CFR parts 165, for most event areas contained within this proposed regulation and has not received notice of any negative impact caused by any of the regulated areas.

Vessels will only be restricted from regulated areas for a short duration of time. Vessels may transit in portions of the affected waterway except for those areas covered by the proposed regulated areas. Notifications of exact dates and times of the enforcement period will be made to the local maritime community through all appropriate means, including but not limited to the Local Notice to Mariners, Broadcast Notice to Mariners or through a Notice of Enforcement in the Federal Register. No new or additional restrictions would be imposed on vessel traffic.

2. Impact on Small Entities

Under the Regulatory Flexibility Act (5 U.S.C. 601-612), we have considered the impact of this proposed rule on small entities. The Coast Guard certifies under 5 U.S.C. 605(b) that this proposed rule will not have a significant economic impact on a substantial number of small entities. This proposed rule would affect the following entities, some of which might be small entities: the owners or operators of vessels intending to transit or anchor in a designated regulated area during an enforcement period.

The regulated areas will not have a significant economic impact on a substantial number of small entities for the following reasons: The regulated areas will be of limited size and of short duration; vessels that can safely do so may navigate in all other portions of the waterways except for the areas designated as regulated areas; most of these regulated areas have been promulgated in the past with no public comments submitted. Additionally, before the effective period, the Coast Guard will issue notice of the time and location of each regulated area through all appropriate means including but not limited to Local Notice to Mariners or Broadcast Notice to Mariners.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT, above. The Coast Guard will not retaliate against small entities that question or complain about this proposed rule or any policy or action of the Coast Guard.

4. Collection of Information

This proposed rule will not call for a new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this proposed rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children from Environmental Health Risks

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. This proposed rule involves the establishment of safety zones and special local regulations. This rule may be categorically excluded from further review under paragraph 34(g)&(h) of Figure 2-1 of the Commandant Instruction. A preliminary environmental analysis checklist supporting this determination is available in the docket where indicated under ADDRESSES. We seek any comments or information that may lead to the discovery of a significant environmental impact from this proposed rule.

List of Subjects

33 CFR Part 100

Marine safety, Navigation (water), Reporting and recording requirements, Waterways.

33 CFR Part 165

Harbors, Marine safety, Navigation (water), Reporting and recordkeeping requirements, Security measures, Waterways.

For the reasons discussed in the preamble, the Coast Guard proposes to amend 33 CFR parts 100 and 165 as follows:

PART 100—SAFETY OF LIFE ON NAVIGABLE WATERS

1. The authority citation for part 100 continues to read as follows:

Authority: 33 U.S.C. 1233.

2. In § 100.100, revise paragraph (c) and the TABLE to § 100.100 to read as follows:

§ 100.100 Special Local Regulations; Regattas and Boat Races in the Coast Guard Sector Long Island Sound Captain of the Port Zone.

* * * * *

(c) Although listed in the Code of Federal Regulations, sponsors of events listed in TABLE to § 100.100 are still required to submit marine event applications in accordance with 33 CFR 100.15. Each application must:

(1) Be submitted no less than 60 days before the date of the proposed event.

(2) If the proposed event does not have a specified date the sponsor shall hold the event during the month it is listed in TABLE to § 100.100.

(3) Any proposed event not being held on the specified date or within the month listed in TABLE to § 100.100 shall be considered a new marine event and the sponsor shall submit a new marine event application in accordance with 33 CFR 100.15 no less than 135 days before the start of the event.

* * * * *

Table to § 100.100
1.1 Harvard-Yale Regatta, Thames River, New London, CT | • Event type: Boat Race.
| • Date: Last Saturday in May through second Saturday of June, from 8 a.m. until 5 p.m.
| • Location: All waters of the Thames River at New London, Connecticut, between the Penn Central Draw Bridge 41°21′46.94″ N 072°5′14.46″ W to Bartlett Cove 41°25′35.9″ N 072°5′42.89″ W (NAD 83).
| • Additional stipulations: Spectator vessels must be at anchor within a designated spectator area or moored to a waterfront facility within the regulated area in such a way that they shall not interfere with the progress of the event at least 30 minutes prior to the start of the races. They must remain moored or at anchor until the men's varsity have passed their positions. At that time, spectator vessels located south of the Harvard Boathouse may proceed downriver at a reasonable speed. Vessels situated between the Harvard Boathouse and the finish line must remain stationary until both crews return safely to their boathouses. If for any reason the men's varsity crew race is postponed, spectator vessels will remain in position until notified by Coast Guard or regatta patrol personnel. The last 1000 feet of the race course near the finish line will be delineated by four temporary white buoys provided by the sponsor. All spectator craft shall remain behind these buoys during the event. Spectator craft shall not anchor: To the west of the race course, between Scotch Cap and Bartlett Point Light, or within the race course boundaries or in such a manner that would allow their vessel to drift or swing into the race course. During the effective period all vessels shall proceed at a speed not to exceed six knots in the regulated area. Spectator vessels shall not follow the crews during the races. Swimming is prohibited in the vicinity of the race course during the races. A vessel operating in the vicinity of the Submarine Base may not cause waves which result in damage to submarines or other vessels in the floating dry-docks.
1.2 Great Connecticut River Raft Race, Middletown, CT | • Event type: Boat Race.
| • Date: Last Saturday in July through the first Saturday in August, from 10 a.m. until 2 p.m.
| • Location: All waters of the Connecticut River Middletown, CT between Dart Island (Marker no. 73) 41°33′8.235″ N 072°33′24.459″ W and Portland Shoals (Marker no. 92) 41°33′46.828″ N 072°38′42.176″ W (NAD 83).
1.3 Head of the Connecticut Regatta, Connecticut River, CT | • Event type: Boat Race. • Date: The second Saturday of October, from 7:30 a.m. until 5 p.m.
| • Location: All waters of the Connecticut River between the southern tip of Gildersleeve Island 41°36′3.61″ N 072°37′18.08″ W and Light Number 87 41°33′32.905″ N 072°37′15.241″ W (NAD 83).
| • Additional stipulations: Vessels less than 20 meters in length will be allowed to transit the regulated area only under escort and at the discretion of the Coast Guard patrol commander. Vessels over 20 meters in length will be allowed to transit the regulated area, under escort, from 12:30 p.m. to 1:45 p.m. or as directed by the Coast Guard patrol commander. All transiting vessels shall operate at “No Wake″ speed or five knots, whichever is slower. Southbound vessels awaiting escort through the regulated area will wait in the vicinity of the southern tip of Gildersleeve Island. Northbound vessels awaiting escort will wait at Light Number 87.
1.4 Riverfront Regatta, Hartford, CT | • Event type: Regatta.
| • Date: The first Sunday of October, from 8:30 a.m. until 4:30 p.m.
| • Location: All water of the Connecticut River, Hartford, CT, between the Putnum Bridge 41°42.87′ N 072°38.43′ W and the Riverside Boat House 41°46.42′ N 072°39.83′ W (NAD 83).
1.5 Patchogue Grand Prix, Patchogue, NY | • Event type: Boat Race.
| • Date: The last weekend of August Friday, Saturday and Sunday, from 11 a.m. until 5 p.m.
| • Location: All water of the Great South Bay, off Shorefront Park, Patchogue, NY from approximate position: Beginning at a point off Sand Spit Park, Patchogue, NY at position 40°44′45″ N, 073°00′51″ W then running south to a point in Great South Bay at position 40°43′46″ N, 073°00′51″ W then running south east to position 40°43′41″ N, 073°00′20″ W then running north east to position 40°43′54″ N, 072°58′46″ W then east to position 40°43′58″ N, 072°57′32″ W then east to position 40°43′57″ N, 072°56′49″ W then north to position 40°44′18″ N, 072°56′49″ W then west to position 40°44′18″ N, 072°57′32″ W then north west to position 40°44′30″ N, 072°58′32″ W then north west to position 40°44′33″ N, 072°59′12″ W then north west to position 40°44′41″ N, 072°59′51″ W then north west to position 40°44′46″ N, 073°00′04″ W and then closing the zone at position 40°44′45″ N, 073°00′51″ W (NAD 83).
1.6 Riverfront U.S. Title series Powerboat Race, Hartford, CT | • Event type: Boat Race. • Date: Labor Day weekend, Friday and Saturday from 10 a.m. until 6 p.m. and Sunday from 12:01 p.m. until 6 p.m.
| • Location: All water of the Connecticut River, Hartford, CT, between the Founders Bridge on the North approximate position 41° 45′53.47″ N, 072° 39′55.77″ W and 41° 45′37.39″ N, 072° 39′47.49″ W (NAD 83) to the South.
1.7 Hartford Dragon Boat Regatta | • Event type: Boat Race.
| • Dates: Saturday and Sunday during the third weekend of August.
| • Time 8 a.m. until 4:30 p.m. each day.
| • Regulated area: All waters of the Connecticut River in Hartford, CT between the Bulkeley Bridge 41°46′10.10″ N, 072°39′56.13″ W and the Wilbur Cross Bridge 41°45′11.67″ N, 072°39′13.64″ W (NAD 83).
1.8 Kayak for a Cause Regatta | • Event type: Boat Race.
| • Date: A single day during the third or fourth weekend of July.
| • Time: 8 a.m. until 3 p.m.
| • Regulated area: All water of Long Island Sound within a nine mile long and half mile wide rectangle shaped regatta course connecting Norwalk, CT and Crab Meadow, NY. The regulated area beginning in Norwalk CT east of Shady Beach at 41°5′32.24″ N, 073°23′11.18″ W then heads south crossing Long Island Sound to a point east of Crab Meadow Beach, Crab Meadow, NY at 40°55′37.21″ N, 073°19′2.14″ W then turns west connecting to a point west of Crab Meadow Beach at 40°55′48.3″ N, 073°19′51.88″ W, then turns north crossing Long Island Sound to the western boundary of Calf Pasture Beach Norwalk, CT at 41°04′57.54″ N, 073°23′53.21″ W then turns east back to its starting point at 41°5′32.24″ N, 073°23′11.18″ W (NAD 83)
| • Additional stipulations: 1) Spectators must maintain a minimum distance of 100 yards from each event participant and support vessel. 2) Vessels that maintain the minimum required distance from event participants and support vessels may transit through the regatta course.

PART 165—REGULATED NAVIGATION AREAS AND LIMITED ACCESS AREAS

3. The authority citation for Part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; and Department of Homeland Security Delegation No. 0170.1.

4. Amend § 165.151 by revising paragraph (a)(3) and TABLES 1 and 2 to read as follows:

§ 165.151 Safety Zones; Fireworks Displays, Air Shows and Swim Events in the Captain of the Port Long Island Sound Zone.

(a) * * *

(3) Although listed in the Code of Federal Regulations, sponsors of events listed in TABLES 1 and 2 to § 165.151 are still required to submit marine event applications in accordance with 33 CFR 100.15. Each application must:

(i) Be submitted no less than 60 days before the date of the proposed event.

(ii) If the proposed event does not have a specified date the sponsor shall hold the event during the month it is listed in TABLES 1 or 2 to § 165.151.

(iii) For those proposed events listed in TABLE 1 to § 165.151 to be held during the month of July, the event may take place during the final seven days of June.

(iv) Any proposed event not being held on the specified date or within the month listed in TABLES 1 or 2 to § 165.151 shall be considered a new marine event and the sponsor shall submit a new marine event application in accordance with 33 CFR 100.15 no less than 135 days before the start of the event.

* * * * *

Table 1 to § 165.151
2 | February
2.1 Sag Harbor COC Winter Harbor Frost Fireworks | Date: A day during the first or second weekend of February from 6:15 p.m. until 6:45 p.m.
| Location: Waters of Sag Harbor off Long Wharf St. Pier in Sag Harbor, NY in approximate position 41°00′16.82″ N, 072°17′43.78″ W (NAD 83).
4 | April
4.1 Bridgeport Bluefish April Fireworks | • Location: Waters of the Pequannock River's Lower Reach surrounding Steel Point in Bridgeport, CT in approximate position 41°10′35″ N 073°10′58″ W (NAD 83).
5 | May
5.1 Jones Beach Air Show | • Date: The Thursday through Sunday before Memorial Day each May from 9:30 a.m. until 3:30 p.m. each day.
| • Location: Waters of Atlantic Ocean off Jones Beach State Park, Wantagh, NY. In approximate positions 40°34′54″ N, 073°33′21″ W, then running east along the shoreline of Jones Beach State Park to approximate position 40°35′49″ N, 073°28′47″ W; then running south to a position in the Atlantic Ocean off of Jones Beach at approximate position 40°33′15″ N, 073°33′09″ W; then running West to approximate position 40°35′05″ N, 073°28′34″ W; then running North to the point of origin. (NAD 83).
5.2 Greenport Spring Fireworks | • Date: A day during the last week of May or first week of June.
| • Location: Waters of Greenport Harbor off Mitchell Park and Marina, Greenport, NY in approximate position 41°05′59.09″ N 072°21′31.44″ W (NAD 83).
6 | June
6.1 Barnum Festival Fireworks | • Date: last Saturday in June.
| • Rain Date: following Saturday.
| • Time: 8:30 p.m. to 10:30 p.m.
| • Location: Waters of Bridgeport Harbor, Bridgeport, CT in approximate position 41°9′04″ N, 073°12′49″ W (NAD 83).
6.2 Town of Branford Fireworks | • Location: Waters of Branford Harbor, Branford, CT in approximate position, 41°15′30″ N, 072°49′22″ W (NAD 83).
6.3 Vietnam Veterans/Town of East Haven Fireworks | • Location: Waters off Cosey Beach, East Haven, CT in approximate position, 41°14′19″ N, 072°52′9.8″ W (NAD 83).
6.4 Salute to Veterans Fireworks | • Date: The third Saturday of June.
| • Rain date: The fourth Saturday of June.
| • Location: Waters of Reynolds Channel off Hempstead, NY in approximate position 40°35′36.62″ N, 073°35′20.72″ W (NAD 83).
6.5 Cherry Grove Arts Project Fireworks | • Date: A single day during the first two weeks of June.
| • Location: Waters of the Great South Bay off Cherry Grove, NY in approximate position 40°39′49.06″ N, 073°05′27.99″ W (NAD 83).
6.6 Bridgeport Bluefish June Fireworks | • Location: Waters of the Pequannock River's Lower Reach surrounding Steel Point in Bridgeport, CT in approximate position 41°10′35″ N 073°10′58″ W (NAD 83).
7 | July
7.1 Point O'Woods Fire Company Summer Fireworks | • Location: Waters of the Great South Bay, Point O'Woods, NY in approximate position 40°39′18.57″ N, 073°08′5.73″ W (NAD 83).
7.2 Cancer Center for Kids Fireworks | • Location: Waters off of Bayville, NY in approximate position 40°54′38.20″ N, 073°34′56.88″ W (NAD 83).
7.3 City of Westbrook, CT July Celebration Fireworks | • Location: Waters of Westbrook Harbor, Westbrook, CT in approximate position, 41°16′10.50″ N, 072°26′14″ W (NAD 83).
7.4 Norwalk Fireworks | • Location: Waters off Calf Pasture Beach, Norwalk, CT in approximate position, 41°04′50″ N, 073°23′22″ W (NAD 83).
7.5 Lawrence Beach Club Fireworks | • Location: Waters of the Atlantic Ocean off Lawrence Beach Club, Atlantic Beach, NY in approximate position 40°34′42.65″ N, 073°42′56.02″ W (NAD 83).
7.6 Sag Harbor Fireworks | • Location: Waters of Sag Harbor Bay off Havens Beach, Sag Harbor, NY in approximate position 41°00′26″ N, 072°17′9″ W (NAD 83).
7.7 South Hampton Fresh Air Home Fireworks | • Location: Waters of Shinnecock Bay, Southampton, NY in approximate positions, 40°51′48″ N, 072°26′30″ W (NAD 83).
7.8 Westport Police Athletic League Fireworks | • Location: Waters off Compo Beach, Westport, CT in approximate position, 41°06′15″ N, 073°20′57″ W (NAD 83).
7.9 City of Middletown Fireworks | • Date: July 4.
| • Rain date: July 5.
| • Time: 8:30 p.m. to 10:30 p.m.
| • Location: Waters of the Connecticut River, Middletown Harbor, Middletown, CT in approximate position 41°33′44.47″ N, 072°38′37.88″ W (NAD 83).
7.10 City of New Haven Fireworks | • Date: July 4.
| • Rain date: July 5.
| • Time: 8:30 p.m. to 10:30 p.m.
| • Location: Waters of New Haven Harbor, off Long Warf Park, New Haven, CT in approximate position 41°17′24″ N, 072°54′55.8″ W (NAD 83).
7.11 City of Norwich July Fireworks | • Date: July 4.
| • Rain date: July 5.
| • Time: 8:30 p.m. to 10:30 p.m.
| • Location: Waters of the Thames River, Norwich, CT in approximate position, 41°31′16.835″ N, 072°04′43.327″ W (NAD 83).
7.12 City of Stamford Fireworks | • Date: July 4.
| • Rain date: July 5.
| • Time: 8:30 p.m. to 10:30 p.m.
| • Location: Waters of Fisher's Westcott cove, Stamford, CT in approximate position 41°02′09.56″ N, 073°30′57.76″ W (NAD 83).
7.13 City of West Haven Fireworks | • Date: July 4.
| • Rain date: July 5.
| • Time: 8:30 p.m. to 10:30 p.m.
| • Location: Waters of New Haven Harbor, off Bradley Point, West Haven, CT in approximate position 41°15′07″ N, 072°57′26″ W (NAD 83).
7.14 CDM Chamber of Commerce Annual Music Fest Fireworks | • Date: July 4. • Rain date: July 5.
| • Time: 8:30 p.m. to 10:30 p.m.
| • Location: Waters off of Cedar Beach Town Park, Mount Sinai, NY in approximate position 40°57′59.58″ N, 073°01′57.87″ W (NAD 83).
7.15 Davis Park Fireworks | • Date: July 4.
| • Rain date: July 5.
| • Time: 8:30 p.m. to 10:30 p.m.
| • Location: Waters of the Great South Bay, Davis Park, NY in approximate position, 40°41′17″ N, 073°00′20″ W (NAD 83).
7.16 Fairfield Aerial Fireworks | • Date: July 4.
| • Rain date: July 5.
| • Time: 8:30 p.m. to 10:30 p.m.
| • Location: Waters of Jennings Beach, Fairfield, CT in approximate position 41°08′22″ N, 073°14′02″ W (NAD 83).
7.17 Fun in the Sun Fireworks | • Date: July 4.
| • Rain date: July 5.
| • Time: 8:30 p.m. to 10:30 p.m.
| • Location: Waters of the Great South Bay off The Pines, East Fire Island, NY in approximate position 40°40′07.43″ N, 073°04′13.88”W. (NAD 83).
7.18 Independence Day Celebration Fireworks | • Date: July 4. • Rain date: July 5.
| • Time: 8:30 p.m. to 10:30 p.m.
| • Location: Waters off of Umbrella Beach, Montauk, NY in approximate position 41°01′44″ N, 071°57′13″ W (NAD 83).zzzzz
7.19 Jones Beach State Park Fireworks | • Date: July 4.
| • Rain date: July 5.
| • Time: 8:30 p.m. to 10:30 p.m.
| • Location: Waters off of Jones Beach State Park, Wantagh, NY in approximate position 40°34′56.676″ N, 073°30′31.186″ W (NAD 83).
7.20 Madison Cultural Arts Fireworks | • Date: July 4.
| • Rain date: July 5.
| • Time: 8:30 p.m. to 10:30 p.m.
| • Location: Waters of Long Island Sound off of Madison, CT in approximate position 41°16′10″ N, 072°36′30″ W (NAD 83).
7.21 Mason's Island Yacht Club Fireworks | • Date: July 4.
| • Rain date: July 5.
| • Time: 8:30 p.m. to 10:30 p.m.
| • Location: Waters of Fisher's Island Sound, Noank, CT in approximate position 41°19′30.61″ N, 071°57′48.22″ W (NAD 83).
7.22 Patchogue Chamber of Commerce Fireworks | • Date: July 4. • Rain date: July 5.
| • Time: 8:30 p.m. to 10:30 p.m.
| • Location: Waters of the Great South Bay, Patchogue, NY in approximate position, 40°44′38″ N, 073°00′33″ W (NAD 83).
7.23 Riverfest Fireworks | • Date: July 4.
| • Rain date: July 5.
| • Time: 8:30 p.m. to 10:30 p.m.
| • Location: Waters of the Connecticut River Hartford, CT in approximate positions, 41°45′39.93″ N, 072°39′49.14″ W (NAD 83).
7.24 Village of Asharoken Fireworks | • Date: July 4.
| • Rain date: July 5.
| • Time: 8:30 p.m. to 10:30 p.m.
| • Location: Waters of Northport Bay, Asharoken, NY in approximate position, 41°55′54.04″ N, 073°21′27.97″ W (NAD 83).
7.25 Village of Port Jefferson Fourth of July Celebration Fireworks | • Date: July 4. • Rain date: July 5.
| • Time: 8:30 p.m. to 10:30 p.m.
| • Location: Waters of Port Jefferson Harbor, Port Jefferson, NY in approximate position 40°57′10.11″ N, 073°04′28.01″ W (NAD 83).
7.26 Village of Quoque Foundering Anniversary Fireworks | • Date: July 4.
| • Rain date: July 5.
| • Time: 8:30 p.m. to 10:30 p.m.
| • Location: Waters of Quantuck Bay, Quoque, NY in approximate position 40°48′42.99″ N, 072°37′20.20″ W (NAD 83).
7.27 City of Long Beach Fireworks | • Location: Waters off Riverside Blvd, City of Long Beach, NY in approximate position 40°34′38.77″ N, 073°39′41.32″ W (NAD 83).
7.28 Great South Bay Music Festival Fireworks | • Location: Waters of Great South Bay, off Bay Avenue, Patchogue, NY in approximate position 40°44′45″ N, 073°00′25″ W (NAD 83).
7.29 Mashantucket Pequot Fireworks | • Location: Waters of the Thames River New London, CT in approximate positions Barge 1, 41°21′03.03″ N, 072°5′24.5″ W Barge 2, 41°20′51.75″ N, 072°5′18.90″ W (NAD 83).
7.30 Shelter Island Fireworks | • Location: Waters of Gardiner Bay, Shelter Island, NY in approximate position 41°04′39.11″ N, 072°22′01.07″ W (NAD 83).
7.31 Clam Shell Foundation Fireworks | • Location: Waters of Three Mile Harbor, East Hampton, NY in approximate position 41°1′15.49″ N, 072°11′27.50″ W (NAD 83).
7.32 Town of North Hempstead Bar Beach Fireworks | • Location: Waters of Hempstead Harbor, North Hempstead, NY in approximate position 40°49′54″ N, 073°39′14″ W (NAD 83).
7.33 Groton Long Point Yacht Club Fireworks | • Location: Waters of Long Island Sound, Groton, CT in approximate position 41°18′05″ N, 072°02′08″ W (NAD 83).
7.34 Devon Yacht Club Fireworks | • Date: A day during the first week of July.
| • Location: Waters of Napeague Bay, in Block Island Sound off Amagansett, NY in approximate position 40°59′41.40″ N, 072°06′08.70″ W (NAD 83).
7.35 Dolan Family Fourth Fireworks | • Date: July 4.
| • Rain date: July 5.
| • Location: Waters of Oyster Bay Harbor in Long Island Sound off Oyster Bay, NY in approximate position 40°53′42.50″ N, 073°30′04.30″ W (NAD 83).
7.36 Friar's Head Golf Club Fireworks | • Date: A day during the first two weeks of July.
| • Location: Waters of Long Island Sound off Baiting Hollow, NY in approximate position, 40°58′19.53″ N, 072°43′45.65″ W (NAD 83).
7.37 Islip Fireworks | • Date: July 4.
| • Rain date July 5.
| • Location: Waters of the Great South Bay off Bay Shore Manor Park, Islip, NY in approximate position 40°42′24″ N, 073°14′24″ W (NAD 83).
7.38 Madison Fireworks | • Date: July 4.
| • Rain date: The Saturday following July 4.
| • Location: Waters of Long Island Sound off Madison Beach, Madison, CT in approximate position 41°16′03.93″ N, 072°36′15.97″ W (NAD 83).
7.39 Stratford Fireworks | • Date: July 3.
| • Rain date: July 5.
| • Location: Waters of Long Island Sound surrounding Short Beach Park, Stratford, CT in approximate position 41°09′50.82″ N, 073°06′47.13″ W (NAD 83).
7.40 Rowayton Fireworks | • Date: July 4.
| • Rain date: July 5.
| • Location: Waters of Long Island Sound south of Bayley Beach Park in Rowayton, CT in approximate position 41°03′11″ N, 073°26′41″ W (NAD 83).
7.41 Niantic Bay Fireworks | • Date: A day during the first three weeks of July.
| • Location: Waters of Niantic Bay 1500 feet west of the Niantic River Railroad Bridge, Niantic, CT in approximate position 41°19′22.59″ N, 072°11′03.47″ W (NAD 83).
7.42 Connetquot River Summer Fireworks | • Date: A day during the first week of July.
| • Location: Waters of the Connetquot River off Snapper Inn Restaurant, Oakdale, NY in approximate position 40°43′32.38″ N, 073°9′02.64″ W (NAD 83).
7.43 North Bay Fourth of July Fireworks | • Date: July 4.
| • Rain Date: July 5.
| • Location: Waters of the Great South Bay in Patchogue Bay 4000 feet south east of Blue Point, NY in approximate position 40°44′6.28″ N, 073°01′02.50″ W (NAD 83).
7.44 National Golf Links Fireworks | • Date: A day during the first week of July.
| • Location: Waters of the Great Peconic Bay ¾ of a mile northwest of Bullhead Bay, Shinnecock, NY in approximate position 40°55′11.79″ N, 072°28′04.34″ W (NAD 83).
7.45 Xirinachs Family Foundation Fireworks | • Date: A day during the first two weekends of July.
| • Location: Waters of Hunting Bay off Beach Ave. Huntington Bay, NY in approximate position 40°54′23.27″ N, 73°25′08.04″ W (NAD 83).
7.46 Irwin family 4th of July | • Date: A day during the last week of June or first week of July.
| • Location: Waters of the Great South Bay off The Helm Rd. East Islip, NY in approximate position 40°42′12.28″ N, 73°12′00.08″ W (NAD 83).
7.47 Westbrook July Celebration | • Date: A day during the last week of June or first week of July.
| • Location: Water of Long Island Sound Westbrook Harbor, West Brook, CT in approximate position 41°16′10″ N, 72°26′14″ W (NAD 83).
7.48 Bridgeport Bluefish July Fireworks | • Location: Waters of the Pequannock River's Lower Reach surrounding Steel Point in Bridgeport, CT in approximate position 41°10′35″ N, 073°10′58″ W (NAD 83).
8 | August
8.1 Village of Bellport Fireworks | • Location: Waters of Bellport Bay, off Bellport Dock, Bellport, NY in approximate position 40°45′01.83″ N, 072°55′50.43″ W (NAD 83).
8.2 Taste of Italy Fireworks | • Location: Waters of Norwich Harbor, off Norwich Marina, Norwich, CT in approximate position 41°31′17.72″ N, 072°04′43.41″ W (NAD 83).
8.3 Old Black Point Beach Association Fireworks | • Location: Waters off Old Black Point Beach, East Lyme, CT in approximate position, 41°17′34.9″ N, 072°12′55″ W (NAD 83).
8.4 Town of Babylon Fireworks | • Location: Waters off of Cedar Beach Town Park, Babylon, NY in approximate position 40°37′53″ N, 073°20′12″ W (NAD 83).
8.5 Shelter Island Yacht Club Fireworks | • Date: The second Saturday of August.
| • Rain date: The second Sunday of August.
| • Location: Waters of Dering Harbor north of Shelter Island Yacht Club, Shelter Island, NY in approximate position 41°05′23.47″ N, 072°21′11.18″ W (NAD 83).
8.6 Stamford Fireworks | • Date: The last Saturday of August.
| • Rain date: The last Sunday of August.
| • Location: Waters of Stamford Harbor, off Kosciuszco Park, Stamford, CT in approximate position 41°01′48.46″ N, 073°32′15.32″ W (NAD 83).
8.7 Nikon Theater at Jones Beach Fireworks | • Date: A day during the first two weeks of August.
| • Location: Waters of Zacks Bay off the Nikon Theater, Jones Beach, NY in approximate position 40°36′02.12″ N, 073°30′05.65″ W (NAD 83).
8.8 Ascension Fireworks | • Date: A day during the third or fourth weekend of August.
| • Location: Waters of the Great South Bay off The Pines, East Fire Island, NY in approximate position 40°40′07.43″ N, 073°04′13.88″ W (NAD 83).
8.9 Bridgeport Bluefish August Fireworks | • Location: Waters of the Pequannock River's Lower Reach surrounding Steel Point in Bridgeport, CT in approximate position 41°10′35″ N, 073°10′58″ W (NAD 83).
9 | September
9.1 East Hampton Fire Department Fireworks | • Location: Waters off Main Beach, East Hampton, NY in approximate position 40°56′40.28″ N, 072°11′21.26″ W (NAD 83).
9.2 Town of Islip Labor Day Fireworks | • Location: Waters of Great South Bay off Bay Shore Marina, Islip, NY in approximate position 40°42′24″ N, 073°14′24″ W (NAD 83).
9.3 Village of Island Park Labor Day Celebration Fireworks | • Location: Waters off Village of Island Park Fishing Pier, Village Beach, NY in approximate position 40°36′30.95″ N, 073°39′22.23″ W (NAD 83).
9.4 The Creek Fireworks | • Date: A day during the first week of September.
| • Location: Waters of Long Island Sound off the Creek Golf Course, Lattingtown, NY in approximate position 40°54′13″ N, 073°35′58″ W (NAD 83).
9.5 Archangel Michael Greek Orthodox Church Fireworks | • Date: A day during the last week of September or first week of October.
| • Location: Water of Hempstead Harbor off Bar Beach Town Park, Port Washington, NY in approximate position 40°49′42″ N, 073°39′07″ W (NAD 83).
9.6 Port Washington Sons of Italy Fireworks | • Location: Waters of Hempstead Harbor off Bar Beach, North Hempstead, NY in approximate position 40°49′48.04″ N, 073°39′24.32″ W (NAD 83).
9.7 Bridgeport Bluefish September Fireworks | • Location: Waters of the Pequannock River's Lower Reach surrounding Steel Point in Bridgeport, CT in approximate position 41°10′35″ N, 073°10′58″ W (NAD 83).
11 | November
11.1 Charles W. Morgan Anniversary Fireworks | • Date: A day during the first or second weekend of November.
| • Location: Waters of the Mystic River, north of the Mystic Seaport Light, Mystic, CT in approximate position 41°21′56.455″ N, 071°57′58.32″ W (NAD 83).
11.2 Christmas Boat Parade Fireworks | • Location: Waters of Patchogue Bay off “Lombardi's On the Bay” restaurant, Patchogue, NY in approximate position 40°44′39.18″ N, 073°00′37.80″ W (NAD 83).
11.3 Connetquot River Fall Fireworks | • Location: Waters of the Connetquot River off Snapper Inn Restaurant, Oakdale, NY in approximate position 40°43′32.38″ N, 073°09′02.64″ W (NAD 83).
12 | December
12.1 Greenport Winter Fireworks | • Date: From 11:45 p.m. December 31, until 12:30 a.m. January 1.
| • Location: Waters of Greenport Harbor off Mitchell Park and Marina, Greenport NY, in approximate position 41°05′59.09″ N, 072°21′31.44″ W (NAD 83).

Table 2 to § 165.151
June, July & August
1.1 Swim Across the Sound | • Location: Waters of Long Island Sound, Port Jefferson, NY to Captain's Cove Seaport, Bridgeport, CT. in approximate positions 40°58′11.71″ N 073°05′51.12″ W, north-westerly to the finishing point at Captain′s Cove Seaport 41°09′25.07″ N 073°12′47.82″ W (NAD 83).
1.2 Huntington Bay Open Water Championships Swim | • Location: Waters of Huntington Bay, NY. In approximate positions start/finish at approximate position 40°54′25.8″ N 073°24′28.8″ W, East turn at approximate position 40°54′45″ N 073°23′36.6″ W and a West turn at approximate position 40°54′31.2″ N 073°25′21″ W. °09′25.07″ N 073°12′47.82″ W (NAD 83).
1.3 Maggie Fischer Memorial Great South Bay Cross Bay Swim | • Location: Waters of the Great South Bay, NY. Starting Point at the Fire Island Lighthouse Dock in approximate position 40°38′01″ N 073°13′07″ W, northerly through approximate points 40°38′52″ N 073°13′09″ W, 40°39′40″ N 073°13′30″ W, 40°40′30″ N 073°14′00″ W, and finishing at Gilbert Park, Brightwaters, NY at approximate position 40°42′25″ N 073°14′52″ W (NAD 83).
1.4 Waves of Hope Swim | • Date: A day during the last week of June or first two weeks of July.
| • Time: 8 a.m. until 1 p.m.
| • Location: All waters of the Great South Bay off Amityville, NY shoreward of a line created by connecting the following points. Beginning at 40°39′22.38″ N, 073°25′31.63″ W, then to 40°39′02.18″ N, 073°25′31.63″ W, then to 40°39′02.18″ N, 073°24′03.81″ W, ending at 40°39′18.27″ N, 073°24′03.81″ W (NAD 83).
1.5 Stonewall Swim | • Date: A day during a weekend in August.
| • Time: 8:30 a.m. until 12:30 p.m.
| • Location: All navigable waters of the Great South Bay within a three miles long and half mile wide box connecting Snedecor Avenue in Bayport, NY to Porgie Walk in Fire Island, NY. Formed by connecting the following points. Beginning at 40°43′40.24″ N, 073°03′41.50″ W then to 40°43′40.00″ N, 073°03′13.40″ W, then to 40°40′04.13 N, 073°03′43.81″ W then to 40°40′08.30″ N, 073°03′17.70″ W and ending at the beginning point 40°43′40.24″ N, 073°03′41.5″ W (NAD 83).
1.6 Swim Across America Greenwich | • Date: A single day during June.
| • Time: 5:30 a.m. until noon.
| • Location: All navigable waters of Stamford Harbor within a half miles long and 1000 foot wide polygon shaped box stretching from Dolphin Cove to Rocky Point between Stamford and Greenwich, CT. Formed by connecting the following points. Beginning at point (A) 41°01′32.03″ N, 073°33′8.93″ W, then south east to point (B) 41°01′15.01″ N, 073°32′55.58″ W, then south west to point (c) 41°00′49.25 N, 073°33′20.36″ W, then north west to point (D) 41°00′58.00″ N, 073°33′27.00″ W, then north east to point (E) 41°01′15.80″ N, 073°33′09.85″ W, then heading north and ending at point (A) (NAD 83).
1.7 U.S. Coast Guard Triathlon Swim | • Date: A single day during August.
| • Location: All navigable waters of the Thames River, New London Harbor off Fort Trumbull State Park around a half mile long course that is west of the Federal navigation channel in New London, CT. Formed by connecting the following points. Beginning at point (A) 41°20′40.03″ N, 072°05′32.15″ W, then east to point (B) 41°20′40.08″ N, 072°05′22.03″ W, then north to point (C), 41°20′48.29 N, 072°05′23.19″ W, then north west to point (D) 41°20′50.84″ N, 072°05′29.29″ W, then south west to end point (E) 41°20′46.41″ N, 072°05′35.77″ W, (NAD 83).

Dated: March 15, 2013.
J.M. Vojvodich,
Captain, U. S. Coast Guard, Captain of the Port Sector Long Island Sound.

[FR Doc. 2013-07747 Filed 4-3-13; 8:45 am]

BILLING CODE 9110-04-P